FEDERAL COMMUNICATIONS COMMISSION

Notice of Public Information Collection(s) Being Submitted to OMB for Review and Approval

May 21, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 29, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0110

Title: Application for Renewal of License for AM, FM, TV Translator or LPTV.

Form Number: FCC 303-S.

Type of Review: Extension of a currently approved collection.

Respondents: Business or other for-profit entities; and Not-for-profit institutions.

Number of Respondents: 3,217.

Estimated Time per Response: 40 mins. to 11 hrs. 30 mins.

Frequency of Response: Reporting once every eight years; Third party disclosure.

Total Annual Burden: 5,271 hours.

Total Annual Costs: $1,567,850.

Needs and Uses: FCC Form 303-S is used to apply for renewal of a commercial or noncommercial AM, FM, or TV broadcast station and FM translator, TV translator, or Low Power TV broadcast station licenses. FCC Form 303-S can also be used in seeking the joint renewal of licenses for an FM or TV translator station and its co-owned primary FM, TV, or LPTV station. 47 CFR Section 73.3580 requires local public notice when filing the license renewal application. For AM, FM, and TV stations, these announcements are made on-the-air. For FM/TV translators and AM/FM/TV station that are silent, the public notice should be published in a newspaper of general circulation. The FCC staff uses the data to assure that the necessary reports connected with the renewal application have been filed and that the licensee meets the basic statutory requirements to remain a broadcast station licensee.

OMB Control Number: 3060-0173.

Title: Section 73.1207, Rebroadcasts.

Form Number: N/A.

Type of Review: Extension of a currently approved collection.

Respondents: Businesses or other for-profit entities; and Not-for-profit institutions.

Number of Respondents: 5,562.

Estimated Time per Response: 0.5 hours.

Frequency of Response: Recordkeeping; On occasion reporting requirement; Third party disclosure.

Total Annual Burden: 5,056 hours.

Total Annual Costs: None.

Needs and Uses: 47 CFR Station 73.1207 requires that licensees of broadcast stations obtain written permission from an originating station prior to retransmitting any program or any part thereof. A copy of the written consent must be kept in the station's files and made available to the FCC upon request. This written consent assures the Commission that prior authorization for retransmission of a program was obtained. Section 73.1207 also requires stations that use the NBS time signals to notify the NBS semiannually of use of time signals.

Federal Communications Commission.
Magalie Roman Salas,
Secretary.

[FR Doc. 01-13454 Filed 5-29-01; 8:45 am]

BILLING CODE 6712-01-P